DEPARTMENT OF TRANSPORTATION

Federal Highway Administration

[Docket No. FHWA-2010-0104]

Agency Information Collection Activities: Notice of Request for Extension of Currently Approved Information Collection

AGENCY: Federal Highway Administration (FHWA), DOT.

ACTION: Notice of request for extension of currently approved information collection.

SUMMARY: The FHWA invites public comments about our intention to request the Office of Management and Budget's (OMB) approval for renewal of an existing information collection that is summarized below under SUPPLEMENTARY INFORMATION. We are required to publish this notice in the Federal Register by the Paperwork Reduction Act of 1995.

DATES: Please submit comments by October 18, 2010.

ADDRESSES: You may submit comments identified by DOT Docket ID Number 2010-0104 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590.

Hand Delivery or Courier: U.S. Department of Transportation, West Building Ground Floor, Room W12-140, 1200 New Jersey Avenue, SE., Washington, DC 20590, between 9 a.m. and 5 p.m. e.t., Monday through Friday, except Federal holidays.

FOR FURTHER INFORMATION CONTACT: Erin Robertson, (202) 366-4814, or Dale Gray, (202) 366-0978, Office of the Chief Financial Officer, Federal Highway Administration, Department of Transportation, 1200 New Jersey Avenue, SE., Washington, DC 20590, Monday through Friday, except Federal holidays.

SUPPLEMENTARY INFORMATION: Title: Request Forms for Fund Transfers to Other Agencies and Among Title 23 Programs.

OMB Control Number: 2125-0620.

Background: Sections 1108, 1119(b), 1935, and 1936 of Public Law 109-59, the Safe, Accountable, Flexible, Efficient Transportation Equity Act: A Legacy for Users (SAFETEA-LU) expanded the transferability of funds to other agencies and among programs. This notice establishes requirements for initiating the transferring of apportioned and allocated funds between entities and between projects and programs to carry out these provisions of law. The types of transfers affected by this notice are:

a. Transfer of funds from a State to the FHWA pursuant to U.S.C. Title 23, § 104(k)(3);

b. Transfer of funds from a State to a Federal Agency other than FHWA;

c. Transfer of funds from a State to another State;

d. Transfer of funds from Federal Transit Administration to FHWA;

e. Transfer of funds between programs; and,

f. Transfer of funds between projects.

The party initiating the fund transfer must fill out a FHWA transfer request form. Information required to fill out a transfer form will include the requester's contact information; a description of the program/project the transfer will come from and go to, the fiscal year, the program code, a demo ID or an urban area when applicable, and the amount to be transferred. The form must be approved by the applicable State Department of Transportation and concurred on by the correlating FHWA Division Office.

Respondents: 50 State Transportation Departments, the District of Columbia, and Puerto Rico.

Frequency: As Needed.

Estimated Average Burden per Response: 30 minutes.

Estimated Total Annual Burden Hours: It is estimated that a total of 600 responses will be received annually, which would equal a total annual burden of 300 hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: August 9, 2010.
Juli Huynh,
Chief, Management Programs and Analysis Division.

[FR Doc. 2010-20540 Filed 8-18-10; 8:45 am]

BILLING CODE 4910-22-P